DEPARTMENT OF THE TREASURY

Internal Revenue Service

Proposed Collection; Comment Request for Regulation Project

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments on the information collection burden relating to basis and transfer statement reporting for covered securities, including debt instruments, options, and other securities.

DATES: Written comments should be received on or before July 18, 2016 to be assured of consideration.

ADDRESSES: Direct all written comments to Tuawana Pinkston, Internal Revenue Service, room 6526, 1111 Constitution Avenue NW., Washington, DC 20224.

FOR FURTHER INFORMATION CONTACT: Requests for additional information or copies of the regulations should be directed to Sara Covington, at Internal Revenue Service, room 6526, 1111 Constitution Avenue NW., Washington, DC 20224, or through the internet, at Sara.L.Covington@irs.gov.

SUPPLEMENTARY INFORMATION: Title: T.D. 9504—Basis Reporting by Securities Brokers and Basis Determination for Stock;

T.D. 9616—Basis Reporting by Securities Brokers and Basis Determination for Debt Instruments and Options;

T.D. 9713—Basis Reporting by Securities Brokers and Basis Determination for Debt Instruments and Options;

T.D. 9750—Basis and Transfer Reporting by Securities Brokers for Debt Instruments and Options.

OMB Number: 1545-2186.

Regulation Project Number: REG-101896-09, REG-102988-11, REG-154563-12, and REG-143040-14.

Abstract: The final regulations under section 6045 provide rules on basis reporting by brokers for transactions involving covered securities, including debt instruments and options. The final regulations under section 6045A provide reporting rules that apply upon a transfer of a covered security from one broker to another broker. These final regulations under sections 6045 and 6045A reflect changes in the law made by the Energy Improvement and Extension Act of 2008, Division B of Public Law 110-343 (122 Stat. 3765, 3854 (2008)), that require brokers when reporting the sale of a covered security to the IRS to include the customer's adjusted basis in the sold securities and to classify any gain or loss as long-term or short-term. The information collected for covered securities under § 1.6045-1, including § 1.6045-1(c)(3)(xi)(C) (relating to short sales), and § 1.6045A-1 allows a broker who effects a sale of a transferred covered security, including a debt instrument or option, to determine and report the adjusted basis of the security and whether any gain or loss with respect to the sale is ordinary (for certain debt instruments), long-term, or short-term in compliance with section 6045(g) of the Internal Revenue Code. The information collected under § 1.6045-1(n)(5) relates to information required to be reported by the holder of a debt instrument to a broker for certain holder elections that affect how the debt instrument's basis is computed, which will enable the broker to comply with its reporting obligations under section 6045(g).

Current Actions: There are changes to these existing regulations.

Type of Review: Revision of a currently approved collection.

Affected Public: Businesses or other for-profit institutions and individuals or households.

Estimated Number of Respondents: 79,000.

Estimated Total Annual Responses: 11,211,500.

Estimated Total Burden Hours: 694,750.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: May 3, 2016.
Tuawana Pinkston,
IRS Supervisory Tax Analyst.

[FR Doc. 2016-11656 Filed 5-17-16; 8:45 am]

BILLING CODE 4830-01-P